DEPARTMENT OF ENERGY

DEPARTMENT OF THE INTERIOR

Bureau of Land Management

[LLWO300000.L14300000]

Notice of Availability of the Draft Programmatic Environmental Impact Statement for Solar Energy Development in Six Southwestern States and Notice of Public Meetings

AGENCIES: Bureau of Land Management, Interior; Department of Energy.

ACTION: Notice of Availability.

SUMMARY: The Bureau of Land Management (BLM) and the Department of Energy (DOE) (the Agencies) as co-lead agencies announce the availability of the Draft Programmatic Environmental Impact Statement (EIS) for Solar Energy Development in Six Southwestern States (BLM/DES 10-59, DOE/EIS—0403). The BLM and the DOE have prepared this document in accordance with the National Environmental Policy Act (NEPA) of 1969, as amended; the Council on Environmental Quality, the DOE, and the Department of the Interior (DOI) regulations implementing NEPA; and the Federal Land Policy and Management Act of 1976, as amended.

DATES: To ensure that comments will be considered in the Final Programmatic EIS, the Agencies must receive written comments on the Draft Programmatic EIS within 90 days following the date the Environmental Protection Agency publishes its Notice of Availability in the Federal Register. The BLM and the DOE will hold 14 public meetings on the Draft Programmatic EIS. The locations of scheduled public meetings are listed in the Supplementary Information section below. The public will also be notified of the dates and times of these meetings at least 15 days in advance via local media, the project Web site, and the DOE NEPA Web site.

ADDRESSES: You may submit written comments related to the Draft Programmatic EIS by the following methods:

• Web site: Using the online comment form available on the project Web site: http://solareis.anl.gov. This is the preferred method of commenting.

• Mail: Addressed to: Solar Energy Draft Programmatic EIS, Argonne National Laboratory, 9700 S. Cass Avenue—EVS/240, Argonne, Illinois 60439.

FOR FURTHER INFORMATION CONTACT: Requests for additional information on the Draft Programmatic EIS should be directed to Linda Resseguie, BLM Solar Programmatic EIS Project Manager, BLM Washington Office, by e-mail at linda_resseguie@blm.gov, or by telephone at 202-912-7337; or to Jane Summerson, DOE Solar Programmatic EIS Document Manager, by e-mail at jane.summerson@ee.doe.gov, or by telephone at 202-287-6188. For general information regarding the BLM NEPA process, contact Shannon Stewart, Senior Planning and Environmental Analyst, BLM Washington Office, by e-mail at shannon_stewart@blm.gov, or by telephone at 202-912-7219. For general information regarding the DOE NEPA process, contact Carol M. Borgstrom, Director, Office of NEPA Policy and Compliance, GC-54, U.S. Department of Energy, 1000 Independence Avenue, SW., Washington, DC 20585, by telephone at 202-586-4600, or leave a message at 1-800-472-2756.

SUPPLEMENTARY INFORMATION: The Draft Programmatic EIS, references, and additional information regarding solar energy development are available at the project Web site: http://solareis.anl.gov. An electronic copy of the Draft Programmatic EIS can be viewed in any BLM State Office public room in the 6-state study area and will be available through the BLM Web site at http://www.blm.gov. A complete, printed copy is available for review at the following BLM offices:

Arizona State Office, One North Central Avenue, Suite 800, Phoenix, Arizona 85004.

Caliente Field Office, US Highway 93 Building #1, Caliente, Nevada 89008.

California Desert District, 22835 Calle San Juan De Los Lagos, Moreno Valley, California 92553.

California State Office, 2800 Cottage Way, Suite W-1623, Sacramento, California 95825.

Cedar City Field Office, 176 East D.L. Sargent Drive, Cedar City, Utah 84721.

Lake Havasu Field Office, 2610 Sweetwater Avenue, Lake Havasu City, Arizona 86406.

Las Cruces District Office, 1800 Marquess Street, Las Cruces, New Mexico 88005.

Nevada State Office, 1340 Financial Boulevard, Reno, Nevada 89502.

San Luis Valley Public Lands Center, 1803 West Highway 160, Monte Vista, Colorado 81144.

Southern Nevada District Office, 4701 North Torrey Pines, Las Vegas, Nevada 89130.

Tonopah Field Office, 1553 South Main Street, Tonopah, Nevada 89049.

Utah State Office, 440 West 200 South, Suite 500, Salt Lake City, Utah 84101.

The Draft Programmatic EIS is also available on the DOE NEPA Web site at http://nepa.energy.gov.

The BLM and the DOE will hold 14 public meetings on the Draft Programmatic EIS to provide an overview of the document, respond to questions, and take public comments. The meetings will be announced through local news media, the project Web site (http://solareis.anl.gov), and the DOE NEPA Web site (http://nepa.energy.gov), at least 15 days in advance. Public meetings are currently planned for the following locations:

Alamosa, Colorado; Barstow, California; Caliente, Nevada; Cedar City, Utah; El Centro, California; Goldfield, Nevada; Las Cruces, New Mexico; Las Vegas, Nevada; Ontario, California; Palm Springs, California; Phoenix, Arizona; Salt Lake City, Utah; Tucson, Arizona; Washington, DC.

At these meetings, the public will have an opportunity to provide oral and written comments. Oral and written comments from the meetings and additional written comments submitted during the comment period will be considered by the Agencies in preparing the Final Programmatic EIS. Comments submitted after the close of the comment period will be considered to the extent practicable.

Background

The BLM is considering taking further actions to facilitate solar energy development in compliance with various orders, mandates, and agency policies. For the BLM, these actions include the evaluation of a new Solar Energy Program applicable to utility-scale solar energy development on BLM-administered lands in 6 southwestern states (Arizona, California, Colorado, Nevada, New Mexico, and Utah). The DOE is considering taking actions to facilitate solar energy development in compliance with various orders, mandates, and agency policies. For the DOE, these actions include the evaluation of developing new program guidance relevant to DOE-supported solar energy projects. The BLM and the DOE are working jointly as lead Agencies to prepare this Programmatic EIS to evaluate the proposed BLM program and whether to develop the DOE guidance. The Draft Programmatic EIS assesses environmental, social, and economic impacts associated with the development and implementation of agency-specific programs that would facilitate environmentally responsible utility-scale solar energy development in 6 southwestern states. For the purposes of the Programmatic EIS, utility-scale solar technologies considered to be viable for deployment over the next 20 years include 3 concentrating solar power technologies (i.e., parabolic trough, power tower, and dish engine systems), and photovoltaic technologies. Because the Programmatic EIS involves environmental effects over a broad geographic and time horizon, the depth and detail of the impact analysis is general, focusing on major impacts in a qualitative manner. The Programmatic EIS does not assess site-specific issues associated with any future individual solar energy development projects. Future utility-scale solar energy development decisions will be subject to analysis under NEPA that may tier to the programmatic analysis.

BLM-Specific Information

The BLM has identified a need to respond in a more efficient and effective manner to the high interest in siting utility-scale solar energy development on public lands and ensure consistent application of measures to avoid, minimize, or mitigate the adverse impacts of such development. The BLM proposes to develop a new Solar Energy Program to further support utility-scale solar energy development on BLM-administered lands that would be applicable to all pending and future solar energy development applications upon execution of the Record of Decision for the Solar Programmatic EIS.

The proposed Solar Energy Program has been designed to further the BLM's ability to meet the requirements for facilitating solar energy development on BLM-administered lands established by the Energy Policy Act of 2005 (Pub. L. 109-58) and Secretarial Order 3285A1 issued by the Secretary of the Interior. In particular, the proposed program has been designed to meet the requirements of Order 3285A1 to identify and prioritize solar energy development in locations best suited for such development, called solar energy zones (SEZ).

The objectives of the BLM's proposed Solar Energy Program include:

• Facilitating near-term utility-scale solar energy development on public lands;

• Minimizing potential negative environmental, social, and economic impacts;

• Providing flexibility to consider a variety of solar energy projects (i.e., by location, facility size, or technology);

• Optimizing existing transmission infrastructure and corridors; and

• Standardizing and streamlining the authorization process for utility-scale solar energy development on BLM-administered lands.

The anticipated elements of the BLM's proposed Solar Energy Program include:

• Identification of lands excluded from utility-scale solar energy development in the 6-state study area;

• Identification of priority areas within the lands open to solar energy development that are best suited for utility-scale production of solar energy in accordance with the requirements of Secretarial Order 3285A1 (i.e., proposed SEZs);

• Establishment of mitigation requirements for solar energy development on public lands to ensure the most environmentally responsible development and delivery of solar energy; and

• Amendment of BLM land use plans in the 6-state study area to adopt those elements of the new Solar Energy Program that pertain to land use planning.

A reasonably foreseeable development (RFD) scenario was developed as part of the Programmatic EIS to help define the potential magnitude of solar energy development that could occur within the 6-state study area over the next 20 years. On the basis of the RFD scenario, the estimated amount of solar energy generation on BLM-administered lands in the study area over the 20-year study period is about 24,000 megawatts, with a corresponding dedicated use of about 214,000 acres of BLM-administered lands.

Through the Programmatic EIS, the BLM is evaluating 3 alternatives for managing utility-scale solar energy development on BLM-administered lands in the 6-state study area. These alternatives include two action alternatives—a solar energy development program alternative and a SEZ program alternative—and a no action alternative.

Under the solar energy development program alternative, the BLM would establish a new Solar Energy Program of administration and authorization policies and required design features to replace certain elements of its existing solar energy policies. The lands that would be excluded from solar energy development include BLM-administered lands currently off-limits to solar energy development, including lands prohibited by law, regulation, presidential proclamation, or executive order (e.g., lands in the National Landscape Conservation System), along with lands that (1) have slopes greater than or equal to 5 percent; (2) have solar insolation levels (i.e., a measurement of the amount of sunlight that strikes the earth's surface) below 6.5 kilowatt-hours per square meter per day; and (3) have known resources, resource uses, or special designations identified in local land use plans that are incompatible with solar energy development. On the basis of these exclusions, approximately 22 million acres of BLM-administered lands would be available for right-of-way (ROW) application under this alternative.

As part of the solar energy development program alternative, the BLM would also identify a number of SEZs within the lands available for ROW application. An SEZ is defined by the BLM as an area well suited to utility-scale energy production, with few impediments to facility construction and operation where BLM would prioritize solar energy and associated transmission infrastructure development. Approximately 677,400 acres have been identified as proposed SEZs. The elements of the BLM's new program under this alternative would be implemented through amendment of the land use plans within the 6-state area.

Under the SEZ program alternative, the BLM would replace certain elements of its current solar energy policies with a program that would authorize utility-scale solar energy development only in the SEZs. Unlike the solar energy development program alternative, lands outside of SEZs would be excluded from utility-scale solar energy development ROW applications. Under this alternative, about 677,400 acres of BLM-administered lands have been identified as proposed SEZs and would be available for ROW application. Under the SEZ program alternative, the management of solar energy development on BLM-administered lands would be the same as described for the solar energy development program alternative. The BLM would establish comprehensive program administration and authorization policies and design features. The elements of the BLM's new program under this alternative would be implemented through amendment of the land use plans within the 6-state area.

Under the no action alternative, solar energy development would continue on BLM-administered lands in accordance with existing solar energy policies. The BLM would not implement a comprehensive Solar Energy Program to provide guidance to BLM field staff, developers, and other stakeholders in the 6-state study area. Specifically, the required program administration and authorization policies as well as design features and land use plan amendments proposed in the 2 action alternatives would not be implemented. Future solar energy projects and land use plan amendments would continue to be evaluated solely on an individual, case-by-case basis.

DOE-Specific Information

The DOE is required to take actions to meet mandates under Executive Order 13212, “Actions to Expedite Energy-Related Projects,” published in the Federal Register on May 22, 2001 (66 FR 28357); Executive Order 13514, “Federal Leadership in Environmental, Energy, and Economic Performance,” published in the Federal Register on October 5, 2009 (74 FR 52117); and Section 603 of the Energy Independence and Security Act of 2007 (EISA) (Pub. L. 109-58). The DOE's purpose and need is to satisfy both executive orders and comply with congressional mandates to promote, expedite, and advance the production and transmission of environmentally sound energy resources, including renewable energy resources and, in particular, cost-competitive solar energy systems at the utility scale.

Specifically, the DOE proposes to further integrate environmental considerations into its analysis and selection of solar projects that it will support. In the Programmatic EIS, the DOE will build on the BLM's analysis of potential impacts of utility-scale solar development on the environment for all phases of development to provide a technical basis for the development of guidance. The DOE will consider, as appropriate, the relevance of the analytical results for all lands, not just BLM-administered lands in the six state area.

The DOE would use this information to develop guidance for the development of solar energy projects. The DOE's investment and deployment strategy would incorporate a decision-making framework of guidance for early consideration of sound environmental practices and potential mitigation measures for solar energy development. Development of a guidance framework, based on the analyses of the Programmatic EIS, would give the DOE the tools with which to make more informed, environmentally sound decisions at the outset, help to streamline future environmental analysis and documentation for DOE-supported solar projects, and support the DOE's efforts to comprehensively (1) determine where to make technology and resource investments to minimize the environmental impacts of solar technologies and (2) establish environmental mitigation recommendations for financial assistance recipients to consider in project plans when applying for DOE funding.

Through this Programmatic EIS, the DOE is evaluating 2 alternatives: an action alternative and a no action alternative. Under the action alternative, the DOE would develop programmatic guidance to further integrate environmental considerations into its analysis and selection of solar projects that it will support. The DOE would use the information about environmental impacts provided in this Programmatic EIS to appropriately amend its programmatic approaches to facilitate the advancement of solar energy development. Under the no action alternative, the DOE would continue to conduct environmental reviews of DOE-funded solar projects on a case-by-case basis. It would not develop programmatic guidance and explicit environmental guidelines and mitigation recommendations to apply to DOE-funded solar projects.

DOE's Western Area Power Administration (Western) markets and transmits wholesale electrical power through an integrated 17,000-circuit mile, high-voltage transmission system across 15 western states, including parts of the 6-state study area for this Programmatic EIS. Western's purpose and need for participating in this Programmatic EIS is to identify potential transmission impacts and recommend mitigation measures for transmission lines associated with solar energy projects. Western anticipates using the transmission environmental impact and mitigation measures analyses in this Programmatic EIS to streamline its own NEPA documents once specific projects are identified and interconnection requests are filed with Western. With the Programmatic EIS providing the basis for this analysis, interconnection project-specific NEPA documents should be more concise and take less time to prepare, resulting in efficiencies for both Western and the project proponent.

Preferred Alternative

The solar energy development program alternative is the BLM preferred alternative. The DOE has not yet identified a preferred alternative.

Public Participation

A notice of intent to prepare this PEIS was published in the Federal Register on May 29, 2008 (73 FR 30908). This notice initiated the first scoping period, which lasted from May 29 to July 15, 2008. During that period, the BLM and the DOE invited the public to provide comments on the scope and objectives of the Programmatic EIS, including identification of issues and alternatives that should be considered in the Programmatic EIS analyses. Public meetings were held at 11 locations across the 6 states. Comments were also collected via the project Web site and by mail. A second scoping period was announced through the “Notice of Availability of Maps and Additional Public Scoping” published in the Federal Register on June 30, 2009 (74 FR 31307). This scoping period was initiated to solicit public comments on 24 specific tracts of BLM-administered land proposed to receive in-depth study for solar development in the Programmatic EIS. Specifically, the Agencies solicited comments about environmental issues, existing resource data, and industry interest with respect to the 24 solar energy study areas. Public comments were collected via the project Web site and by mail.

Approximately 15,900 individuals, organizations, and government agencies provided comments during the first scoping process, and approximately 300 entities provided comments during the second scoping process.

In addition to public scoping, the BLM initiated government-to-government consultation with 316 Native American Tribes, Chapters, and Bands with a potential interest in solar energy development on BLM-administered lands in the 6-state study area. The BLM is also coordinating with and soliciting input from the State Historic Preservation Offices (SHPO) in each of the 6 states in the study area and from the Advisory Council on Historic Preservation. In addition, the National Council of SHPOs, the National Trust for Historic Preservation, and tribal governments have been invited to consult on the Programmatic EIS and the preparation of a National Programmatic Agreement regarding solar energy development.

The Draft Programmatic EIS consists of approximately 11,000 pages in 8 volumes. All readers are encouraged to review the document electronically. The Executive Summary and Reader's Guide, including a digital versatile disc (DVD) containing the entire document, is available upon request. The document is also available through the project Web site at http://solareis.anl.gov, the BLM Web site at http://www.blm.gov, and the DOE NEPA Web site at http://nepa.energy.gov.

Other Agency Involvement

Cooperating Federal agencies on the Programmatic EIS include the Department of Defense; the U.S. Fish and Wildlife Service; the National Park Service; the Bureau of Reclamation; the U.S. Environmental Protection Agency, Region 9; and the U.S. Army Corps of Engineers, South Pacific Division.

Other cooperating agencies on the Programmatic EIS include the Arizona Game and Fish Department; the California Energy Commission and Public Utilities Commission; the Nevada Department of Wildlife, the N-4 Grazing Board; the Utah Public Lands Policy Coordination Office; Clark, Esmeralda, Eureka, Lincoln, and Nye Counties, Nevada; Saguache County, Colorado; and Dona Ana County, New Mexico.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 1506.10, and 43 CFR 1610.2

Michael D. Nedd,
Assistant Director, Minerals and Realty Management, Bureau of Land Management.
Cathy Zoi,
Assistant Secretary for Energy Efficiency and Renewable Energy, Department of Energy.

[FR Doc. 2010-31725 Filed 12-16-10; 8:45 am]

BILLING CODE 4310-84-P